DEPARTMENT OF HOUSING AND URBAN DEVELOPMENT

[Docket Number FR-5600-FA-41]

Announcement of Funding Awards for the Housing Opportunities for Persons With AIDS (HOPWA) Program for Fiscal Year (FY) 2012

AGENCY: Office of the Assistant Secretary for Community Planning and Development, HUD.

ACTION: Notice of funding awards.

SUMMARY: In accordance with Section 102(a)(4)(C) of the U.S. Department of Housing and Urban Development Reform Act of 1989, this notice announces 28 permanent supportive housing renewal grant awards totaling $32,933,188 from the Department's FY2012 Housing Opportunities for Persons With AIDS (HOPWA) program. The notice announces the selection of 28 renewal grants for permanent supportive housing efforts. This notice makes available the names of the award recipients and grant amounts (reference Appendix A).

FOR FURTHER INFORMATION CONTACT: Benjamin Ayers, CPD Specialist, Office of HIV/AIDS Housing, Department of Housing and Urban Development, 451 Seventh Street SW., Room 7212, Washington, DC 20410, telephone (202) 708-1934. To provide service for persons who are hearing-or-speech-impaired, this number may be reached via TTY by dialing the Federal Relay Service on 800-877-TTY, (800-877-8339), or 202-708-2565. (Telephone numbers other than “800” TTY numbers are not toll free). Information on HOPWA, community development and consolidated planning, and other HUD programs may be obtained from the HUD Home Page at www.hud.gov. In addition to these competitive selections, 135 jurisdictions received formula based allocations during the FY2012 totaling $298,800,000 to provide supportive housing programs for low-income individuals and their families living with HIV/AIDS. Descriptions of the formula and competitive programs may be obtained at: http://hudhre.info/hopwa/index.cfm?do=viewHopwaLocalResources.

SUPPLEMENTARY INFORMATION: The renewal grant application notification to expiring permanent supportive housing grants was established in a Memorandum, entitled, “Standards for Fiscal Year 2012 HOPWA Permanent Supportive Housing Renewal Grant Applications,” issued on January 5, 2012. The HOPWA assistance made available in this notice is authorized by the AIDS Housing Opportunity Act (42 U.S.C. 12901), as amended by the Housing and Community Development Act of 1992 (Pub. L. 102-550, approved October 28, 1992) and was appropriated by the HUD Appropriations Act for 2012.

The 28 grant awards totaling $32,933,188 will provide housing and supportive services to an estimated 1,450 low-income households and their families living with HIV/AIDS. These grant applicants committed approximately $39.5 million in leveraging of other Federal, State, local, and private resources to provide additional supportive services for project beneficiaries. The awarded funding is to be used over a three year period to continue local permanent supportive housing efforts. The grant awards were announced on March 20, 2012. These grant activities compliment HUD's implementation of the National HIV/AIDS Strategy (NHAS), HUD's Fiscal Year 2010-2015 Strategic Plan, and the Opening Doors Federal Strategic Plan to Prevent and End Homelessness. These award actions address goals to: Prevent and end homelessness; increase the supply of affordable housing; and increase the coordination of mainstream housing resources and other health and human services. More information about HUD's HOPWA program and the funded grantees is available at: http://portal.hud.gov/hudportal/HUD?src=/program_offices/comm_planning/aidshousing/programs.

In accordance with Section 102(a)(4)(C) of the U.S. Department of Housing and Urban Development Reform Act of 1989 (103 Stat. 1987, 42 U.S.C. 3545), the Department is publishing the details of HOPWA renewal funding grant awards in Appendix A.

Dated: February 26, 2013.
Frances Bush,
Deputy Assistant Secretary for Operations, Office of Community Planning and Development.

Appendix A

Fiscal Year 2012 Funding Awards for HOPWA Permanent Supportive Housing Renewal Grants
State | Grantee name | City | Grant award
AK | State of Alaska—Alaska Housing Finance Corporation | Anchorage | $781,269
CA | City of Los Angeles Housing Department | Los Angeles | 1,501,500
CA | County of Alameda Housing and Community Development Department | San Francisco | 1,483,179
CA | Tenderloin AIDS Resource Center | San Francisco | 1,276,170
CA | Salvation Army Alegria | Los Angeles | 1,062,519
DE | Ministry of Caring, Inc | Wilmington | 790,298
HI | Maui AIDS Foundation | Wailuku | 1,440,477
HI | Gregory House Programs | Honolulu | 1,390,650
IL | City of Chicago Department of Public Health | Chicago | 1,487,815
IL | Chicago House & Social Service Agency, Inc | Chicago | 1,285,370
IL | AIDS Foundation of Chicago | Chicago | 1,476,160
MA | Community Healthlink, Inc | Worcester | 899,274
MA | AIDS Action Committee of Massachusetts | Boston | 1,415,025
MD | City of Baltimore Office of Human Services | Baltimore | 1,405,950
ME | Frannie Peabody Center (Housing Assistance Program) | Portland | 1,054,799
ME | Frannie Peabody Center (Outreach to Rural Maine) | Portland | 1,309,169
ME | Frannie Peabody Center (Racial and Ethnic Minority Outreach Program) | Portland | 1,432,653
MI | Cass Community Social Services, Inc | Detroit | 1,348,970
MO | Interfaith Residence Dba Doorways (Central and Southern Missouri) | Saint Louis | 1,109,912
MO | Interfaith Residence Dba Doorways (Southern Illinois) | Saint Louis | 965,658
MT | State of Montana Department of Public Health and Human Services | Helena | 1,482,040
NH | City of Nashua Division of Public Health and Community Service | Nashua | 1,430,000
NH | State of New Hampshire Bureau of Homeless and Housing Services | Concord | 734,770
NY | Bailey House, Inc | New York City | 1,081,922
PA | Calcutta House | Philadelphia | 837,303
TX | City of Dallas Housing and Community Services Department | Dallas | 746,853
VT | Burlington Housing Authority | Burlington | 392,906
WI | AIDS Resource Center of Wisconsin | Milwaukee | 1,310,577
Total |  |  | 32,933,188

[FR Doc. 2013-04911 Filed 3-1-13; 8:45 am]

BILLING CODE 4210-67-P